DEPARTMENT OF THE INTERIOR

Bureau of Land Management

[LLWO350000.L14300000.FR0000.24-1A]

Conveyance of Federally-Owned Mineral Interests; Renewal of OMB Control Number

AGENCY: Bureau of Land Management, Interior.

ACTION: 60-Day notice and request for comments.

SUMMARY: In compliance with the Paperwork Reduction Act of 1995, the Bureau of Land Management (BLM) is announcing its intention to request approval to continue the collection of information from owners of surface estates who apply for underlying Federally-owned mineral interests. The Office of Management and Budget (OMB) previously approved this information collection activity, and assigned it control number 1004-0153.

DATES: Submit comments on the proposed information collection by April 6, 2012.

ADDRESSES: Comments may be submitted by mail, fax, or electronic mail.

Mail: U.S. Department of the Interior, Bureau of Land Management, 1849 C Street NW., Room 2134LM, Attention: Jean Sonneman, Washington, DC 20240.

Fax: to Jean Sonneman at (202) 245-0050.

Electronic mail: Jean_Sonneman@blm.gov.

Please indicate “Attn: 1004-0153” regardless of the form of your comments.

FOR FURTHER INFORMATION CONTACT: To receive a copy of the information collection request, contact Marilyn A. Roth, at (202) 912-7345. Persons who use a telecommunication device for the deaf (TDD) may call the Federal Information Relay Service (FIRS) at 1 (800) 877-8339, to leave a message for Ms. Roth.

SUPPLEMENTARY INFORMATION: OMB regulations at 5 CFR 1320, which implement provisions of the Paperwork Reduction Act, 44 U.S.C. 3501-3521, require that interested members of the public and affected agencies be given an opportunity to comment on information collection and recordkeeping activities (see 5 CFR 1320.8 (d) and 1320.12(a)). This notice identifies an information collection that the BLM will be submitting to OMB for approval. The Paperwork Reduction Act provides that an agency may not conduct or sponsor a collection of information unless it displays a currently valid OMB control number. Until OMB approves a collection of information, you are not obligated to respond.

The BLM will request a 3-year term of approval for this information collection activity. Comments are invited on: (1) The need for the collection of information for the performance of the functions of the agency; (2) the accuracy of the agency's burden estimates; (3) ways to enhance the quality, utility and clarity of the information collection; and (4) ways to minimize the information collection burden on respondents, such as use of automated means of collection of the information. A summary of the public comments will accompany our submission of the information collection requests to OMB.

The following information is provided for the information collection:

Title: Conveyance of Federally-Owned Mineral Interests (43 CFR Part 2720).

OMB Control Number: 1004-0153.

Abstract: The respondents in this information collection are owners of surface estates who apply for underlying Federally-owned mineral estates. The Bureau of Land Management (BLM) needs to conduct the information collection to determine if the applicants are eligible to receive title to the Federally-owned minerals lying beneath their lands. When certain specific conditions have been met, the United States will convey legal title to the Federally-owned minerals to the owner of the surface estate.

Frequency of Collection: On occasion.

Estimated Number and Description of Respondents: 11 businesses, 10 individuals, and 3 State/Local/Tribal Governments annually.

Estimated Reporting and Recordkeeping “Hour” Burden: 240 hours annually.

Estimated Reporting and Recordkeeping “Non-Hour Cost” Burden: $1,200 annually.

The following table details the individual components and respective hour burdens of this information collection request:

A. Type of response | B. Number of responses | C. Hours per response | D. Total hours (Column B × Column C)
Conveyance of Federally-Owned Mineral Interests—Businesses | 11 | 10 | 110
Conveyance of Federally-Owned Mineral Interests—Individuals | 10 | 10 | 100
Conveyance of Federally-Owned Mineral Interests—State/Local/Tribal Governments | 3 | 10 | 30
Totals | 24 |  | 240

Before including your address, telephone number, email address, or other personal identifying information in your comments, be advised that your entire comment—including your personal identifying information—may be made publicly available at any time. While you can ask in your comment to withhold from public review your personal identifying information, we cannot guarantee that we will be able to do so.

Jean Sonneman,
Bureau of Land Management, Information Collection Clearance Officer, Bureau of Land Management.

[FR Doc. 2012-2561 Filed 2-3-12; 8:45 am]

BILLING CODE 4310-84-P